FEDERAL MARITIME COMMISSION

Ocean Transportation Intermediary License Revocations

The Commission gives notice that the following Ocean Transportation Intermediary license has been revoked pursuant to section 19 of the Shipping Act of 1984 (46 U.S.C. 40101) effective on the date shown.

License No.: 18751N.

Name: World Commerce Services, L.L.C. dba WLG USA, LLC.

Address: 920 E. Algonquin Road, Suite 120, Schaumburg, IL 60173.

Date Revoked: December 13, 2012.

Reason: Failed to maintain a valid bond.

Vern W. Hill,
Director, Bureau of Certification and Licensing.

[FR Doc. 2012-31208 Filed 12-27-12; 8:45 am]

BILLING CODE 6730-01-P